DEPARTMENT OF COMMERCE

National Oceanic and Atmospheric Administration

50 CFR Part 223

RIN 0648-BC10

Sea Turtle Conservation; Shrimp Trawling Requirements; Public Hearing Notification

AGENCY: National Marine Fisheries Service (NMFS), National Oceanic and Atmospheric Administration (NOAA), Commerce.

ACTION: Proposed rule; notice of public hearing.

SUMMARY: NMFS announces a sixth public hearing to be held in Miami, FL on July 6, 2012, to answer questions and receive public comments on the proposed rule to withdraw the alternative tow time restriction and require all skimmer trawls, pusher-head trawls, and wing nets (butterfly trawls) rigged for fishing to use turtle excluder devices (TEDs) in their nets, which was published in the Federal Register on May 10, 2012. In the proposed rule, we announced five public hearings to be held in Morehead City, NC, Larose, LA, Belle Chasse, LA, D'Iberville, MS, and Bayou La Batre, AL.

DATES: A public hearing will be held on July 6, 2012, from 6 to 8 p.m. in Miami, FL. Written comments (see ADDRESSES) will be accepted through July 9, 2012. See SUPPLEMENTARY INFORMATION for further details.

ADDRESSES: As published on May 10, 2012 (77 FR 27411), you may submit comments on this proposed rule, identified by 0648-BC10, by any of the following methods:

• Electronic Submissions: Submit all electronic public comments via the Federal e-Rulemaking Portal: http://www.regulations.gov.

• Mail: Michael Barnette, Southeast Regional Office, NMFS, 263 13th Avenue South, St. Petersburg, FL 33701.

• Fax: 727-824-5309; Attention: Michael Barnette.

Instructions: All comments received are a part of the public record and will generally be posted to http://www.regulations.gov without change. All Personal Identifying Information (for example, name, address, etc.) voluntarily submitted by the commenter may be publicly accessible. Do not submit Confidential Business Information or otherwise sensitive or protected information. We will accept anonymous comments (enter N/A in the required fields, if you wish to remain anonymous). You may submit attachments to electronic comments in Microsoft Word, Excel, WordPerfect, or Adobe PDF file formats only.

FOR FURTHER INFORMATION CONTACT: Michael Barnette, 727-551-5794.

SUPPLEMENTARY INFORMATION: The date, time and location of the hearing is as follows:

1. Friday, July 6, 2012, 6 p.m. to 8 p.m., Miami, FL: Marriott Miami Biscayne Bay, 1633 N. Bayshore Drive, Miami, FL 33132, (305) 374-3900 or (866) 257-5990.

These hearings are physically accessible to people with disabilities; a Spanish language interpreter will be available, if needed.

Dated: June 18, 2012.
Alan D. Risenhoover,
Acting Deputy Assistant Administrator for Regulatory Programs, National Marine Fisheries Service.

[FR Doc. 2012-15341 Filed 6-21-12; 8:45 am]

BILLING CODE 3510-22-P